NATIONAL FOUNDATION FOR THE ARTS AND THE HUMANITIES

Institute of Museum and Library Services

Submission for Emergency/Expedited OMB Review, Comment Request, Proposed Collection: Communities for Immunity Program Evaluation

AGENCY: Institute of Museum and Library Services, National Foundation for the Arts and the Humanities.

ACTION: Submission for emergency/expedited OMB review, comment request.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the emergency/expedited clearance to administer surveys to Communities for Immunity Program project leaders and participants in funded activities and to conduct interviews with a subset of project leaders and participants. A copy of the proposed information collection request can be obtained by contacting the individual listed below in the FOR FURTHER INFORMATION CONTACT section of this Notice.

DATES: Written comments must be submitted to the office listed in the ADDRESSES section below on or before November 15, 2021.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Matthew Birnbaum, Ph.D., Supervising Social Scientist, Office of Research and Evaluation, Institute of Museum and Library Services, 955 L'Enfant Plaza North SW, Suite 4000, Washington, DC 20024-2135. Dr. Birnbaum can be reached by telephone at 202-653-4760, or by email at mbirnbaum@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This Notice proposes the emergency/expedited clearance to administer surveys to Communities for Immunity Program project leaders and participants in funded activities and to conduct interviews with a subset of project leaders and participants. Communities for Immunity is a short-term, one-time program that supports the communication and community engagement efforts of museums, libraries, and their community partners to improve confidence in COVID-19 vaccines and ultimately, improve COVID-19 vaccination rates, to address this urgent national public health crisis. The program evaluation will investigate whether and the degree to which project activities influenced participants' understanding, beliefs, attitudes, or behavior regarding COVID-19 vaccines, with the aim of identifying communication and engagement strategies that can be replicated in other communities. The proposed data collection will complement findings from document review and analysis of program administrative data to generate insights into which strategies work well for whom in what contexts. IMLS will share findings as broadly as possible—including among agency partners, professional association audiences, and with the public—to enable others to implement influential local engagement.

Agency: Institute of Museum and Library Services.

Title: Communities for Immunity Program Evaluation.

OMB Control Number: 3137-NEW.

Agency Number: 3137.

Affected Public: Communities for Immunity project leaders and program-participating public.

Total Number of Respondents: 1,186.

Frequency of Response: Once.

Average Minutes per Response: 6.

Total Burden Hours: 120.5.

Total Annualized Capital/Startup Costs: n/a.

Total Annual Cost Burden: $ 4,688.66.

Total Annual Federal Costs: $54,545.46.

Dated: October 12, 2021.
Suzanne Mbollo,
Grants Management Specialist, Institute of Museum and Library Services.

[FR Doc. 2021-22541 Filed 10-14-21; 8:45 am]

BILLING CODE 7036-01-P